DEPARTMENT OF LABOR

Occupational Safety and Health Administration

[Docket No. NRTL-2-92]

Canadian Standards Association, Applications for Renewal and Expansion of Recognition

AGENCY: Occupational Safety and Health Administration (OSHA), Labor.

ACTION: Notice.

SUMMARY: This notice announces: (1) The application of Canadian Standards Association for renewal of its recognition as a Nationally Recognized Testing Laboratory under 29 CFR 1910.7, and (2) the application of Canadian Standards Association for expansion of its recognition to use additional standards and presents the Agency's preliminary finding. This preliminary finding does not constitute an interim or temporary approval of these applications.

DATES: Comments submitted by interested parties, or any request for extension of the time to comment, must be received no later than April 2, 2001.

ADDRESSES: Submit written comments concerning this notice to: Docket Office, Docket NRTL-2-92, U.S. Department of Labor, Occupational Safety and Health Administration, Room N2625, 200 Constitution Avenue, NW., Washington, DC 20210; telephone: (202) 693-2350. Commenters may transmit written comments of 10 pages or less in length by facsimile to (202) 693-1648. Submit request for extensions concerning this notice to: Office of Technical Programs and Coordination Activities, NRTL Program, Occupational Safety and Health Administration, U.S. Department of Labor, Room N3653, 200 Constitution Avenue, NW., Washington, DC 20210.

FOR FURTHER INFORMATION CONTACT: Bernard Pasquet, Office of Technical Programs and Coordination Activities, NRTL Program, Room N3653 at the above address, or phone (202) 693-2110.

SUPPLEMENTARY INFORMATION:

Notice of Application

The Occupational Safety and Health Administration (OSHA) hereby gives notice that the Canadian Standards Association (CSA) has applied for renewal and for expansion of its current recognition as a Nationally Recognized Testing Laboratory (NRTL). CSA's expansion request covers the use of additional test standards.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of the preliminary finding on an application.

The most recent notices published by OSHA for CSA's recognition covered an expansion for additional standards, which OSHA announced on July 20, 1999 (64 FR 38926) and granted on November 4, 1999 (64 FR 60240). The following is a chronology of the other Federal Register notices published by OSHA concerning CSA's recognition, all of which involved an expansion of recognition for additional sites, standards, or programs: a request announced on December 10, 1993 (58 FR 64973) and granted on February 4, 1994 (59 FR 5446); a request announced on March 3, 1994 (59 FR 10173) and granted on August 9, 1994 (59 FR 40602) ; a request announced on December 8, 1994 (59 FR 63383) and granted on March 24, 1995 (60 FR 15595); and a request announced on July 12, 1996 (61 FR 36763) and granted on November 20, 1996 (61 FR 59110). The renewal will incorporate all recognitions granted to CSA through the date of publication of this preliminary finding.

The current address of the CSA testing facilities already recognized by OSHA are:

Canadian Standards Association, Etobicoke (Toronto), 178 Rexdale Boulevard, Etobicoke, Ontario, M9W 1R3

CSA International, Pointe-Claire (Montreal), 865 Ellingham Street, Pointe-Claire, Quebec H9R 5E8

CSA International, Richmond (Vancouver), 13799 Commerce Parkway, Richmond, British Columbia V6V 2N9

CSA International, Edmonton, 1707-94th Street, Edmonton, Alberta T6N 1E6

CSA International, Cleveland, 8501 East Pleasant Valley Road, Cleveland, Ohio 44131 (formerly part of the American Gas Association)

CSA International, Irvine, 2805 Barranca Parkway, Irvine, California 92606 (formerly part of the American Gas Association)

General Background on the Applicant and Applications

CSA originated in 1919 as the Canadian Engineering Standards Association (CESA), which was changed in 1944 to the present name. In 1940, CSA began to test and certify products. CSA received its recognition as an NRTL on December 24, 1992 (see 57 FR 61452), for a period of five years ending December 24, 1997. Appendix A to 29 CFR 1910.7 stipulates that the period of recognition of an NRTL is five years and that an NRTL may renew its recognition by applying not less than nine months, nor more than one year, before the expiration date of its current recognition. CSA submitted its renewal request on March 20, 1997 (see Exhibit 26A), within the time allotted, and CSA retains its recognition pending OSHA's final decision in this renewal process.

In July 1997, CSA acquired testing facilities that OSHA had recognized for the American Gas Association on June 7, 1990 (55 FR 23312). Although OSHA was generally aware that CSA had made the acquisition, CSA did not officially inform OSHA until March 1999 as to how it wanted to treat these sites within its NRTL operations. The NRTL Program staff had withheld action on CSA's renewal request until it received this information.

CSA has submitted a request, dated June 16, 1999 (see Exhibit 26B), to expand its recognition as an NRTL to include 195 additional test standards. The NRTL Program staff has determined that 51 of the 195 standards are not “appropriate test standards,” within the meaning of 29 CFR 1910.7(c). The staff makes such determinations in processing expansion requests from any NRTL. Therefore, OSHA would approve 144 test standards for the expansion, which are listed below in the section on expansion.

Renewal of NRTL Recognition

CSA seeks renewal of its recognition for the six sites that OSHA has previously recognized. The renewal of each of these sites is limited to performing testing to the test standards for which OSHA has recognized CSA, and for which the site has the proper capability and control programs. The renewal will allow CSA to maintain its current operation as an NRTL.

CSA also seeks renewal of its recognition for testing and certification of products to demonstrate compliance to the following 416 test standards, which OSHA has previously recognized for CSA. All these standards are “appropriate,” within the meaning of 29 CFR 1910.7(c). However, some of the test standards for which OSHA currently recognizes CSA were no longer appropriate at the time of preparation of this preliminary notice, primarily because they have been withdrawn by the standards developing organization. As appropriate, OSHA has eliminated or replaced these test standards in the list shown below.

OSHA recognition of any NRTL for a particular test standard is limited to equipment or materials (i.e., products) for which OSHA standards require third party testing and certification before use in the workplace. As a result, the Agency's recognition of an NRTL for a test standard excludes any product(s), falling within the scope of the test standard, for which OSHA has no such requirements.

ANSI A17.5 Elevators and Escalator Electrical Equipment

ANSI C37.20.1 Metal-Enclosed Low-Voltage Power Circuit-Breaker Switchgear ⁽¹⁾

ANSI C37.20.2 Metal-Clad and Station-Type Cubicle Switchgear ⁽¹⁾

ANSI C37.20.3 Metal-Enclosed Interrupter Switchgear ⁽¹⁾

ANSI C37.21 Control Switchboards ⁽¹⁾

ANSI C37.23 Metal Enclosed Bus and Calculating Losses in Isolated-Place Bus ⁽¹⁾

ANSI C37.41 Design Tests for High-Voltage Fuses, Distribution Enclosed Single Pole Air Switches, Fuse Disconnecting Switches and Accessories ⁽¹⁾

ANSI C37.46 Specifications for Power Fuses and Fuse Disconnecting Switches ⁽¹⁾

ANSI C37.54 Indoor Alternating-Current High Voltage Circuit Breakers Applied as Removable Elements in Metal-Enclosed Switchgear Assemblies—Conformance Test Procedures ⁽¹⁾

ANSI C37.55 Metal-Clad Switchgear Assemblies—Conformance Test Procedures ⁽¹⁾

ANSI C37.57 Metal-Enclosed Interrupter Switchgear Assemblies—Conformance Testing ⁽¹⁾

ANSI C37.58 Indoor AC Medium-Voltage Switches for Use in Metal-Enclosed Switchgear—Conformance Testing Procedures ⁽¹⁾

ANSI C37.121 Unit Substations—Requirements ⁽¹⁾

ANSI C62.11 Metal Oxide Surge Arresters for AC Power Circuits ⁽¹⁾

ANSI Z21.1 Household Cooking Gas Appliances

ANSI Z21.5.2 Gas Clothes Dryers, Type 2, Volume II

ANSI Z21.10.3 Gas Water Heaters, Volume III Storage, With Input Ratings Above 75,000 Btu Per Hour, Circulating and Instantaneous Water Heaters

ANSI Z21.12 Draft Hoods

ANSI Z21.13 Gas-Fired Low-Pressure Steam and Hot Water Heating Boilers

ANSI Z21.15 Manually Operated Gas Valves

ANSI Z21.17 Domestic Gas Conversion Burners

ANSI Z21.18 Gas Appliance Pressure Regulators

ANSI Z21.20 Automatic Gas Ignition Systems and Components

ANSI Z21.21 Automatic Valves for Gas Appliances

ANSI Z21.22 Relief Valves and Automatic Gas Shutoff Devices for Hot Water Supply Systems

ANSI Z21.23 Gas Appliance Thermostats

ANSI Z21.35 Gas Filters on Appliances

ANSI Z21.40.1 Gas-Fired Absorption Summer Air Conditioning Appliances

ANSI Z21.47 Gas-Fired Central Furnaces

ANSI Z21.48 Gas-Fired Gravity and Fan Type Floor Furnaces

ANSI Z21.49 Gas-Fired Gravity and Fan Type Vented Wall Furnaces

ANSI Z21.56 Gas-Fired Pool Heaters

ANSI Z21.61 Gas-Fired Toilets

ANSI Z21.66 Automatic Vent Damper Devices for Use With Gas-Fired Appliances Electrically Operated

ANSI Z21.73 Portable Camp Lanterns for Use With Propane Gas

ANSI Z83.3 Gas Utilization Equipment in Large Boilers

ANSI Z83.4 Direct Gas-Fired Make-Up Air Heaters

ANSI Z83.6 Gas-Fired Infrared Heaters

ANSI Z83.7 Gas-Fired Construction Heaters

ANSI Z83.8 Gas Unit Heaters

ANSI Z83.11 Gas Food Service Equipment—Ranges and Unit broilers

UL 1 Flexible Metal Conduit

UL 3 Flexible Nonmetallic Tubing for Electric Wiring

UL 4 Armored Cable

UL 5 Surface Metal Raceways and Fittings

UL 6 Rigid Metal Conduit

UL 13 Power-Limited Circuit Cables

UL 20 General-Use Snap Switches

UL 22 Electric Amusement Machines

UL 44 Rubber-Insulated Wires and Cables

UL 45 Portable Electric Tools

UL 48 Electric Signs

UL 50 Electrical Cabinets and Boxes

UL 51 Power-Operated Pumps for Anhydrous Ammonia and LP-Gas

UL 62 Flexible Cord and Fixture Wire

UL 65 Electric Wired Cabinets

UL 67 Electric Panelboards

UL 69 Electric Fence Controllers

UL 73 Electric-Motor-Operated Appliances

UL 79 Power-Operated Pumps for Petroleum Product Dispensing Systems

UL 82 Electric Gardening Appliances

UL 83 Thermoplastic-Insulated Wires and Cables

UL 87 Power-Operated Dispensing Devices for Petroleum Products

UL 94 Tests for Flammability of Plastic Materials for Parts in Devices and Appliances

UL 98 Enclosed and Dead-Front Switches

UL 104 Elevator Door Locking Devices

UL 122 Electric Photographic Equipment

UL 125 Valves for Anhydrous Ammonia and LP-Gas (Other Than Safety Relief)

UL 130 Electric Heating Pads

UL 132 Safety Relief Valves for Anhydrous Ammonia and LP-Gas

UL 141 Garment Finishing Appliances

UL 144 Pressure Regulating Valves for LP-Gas

UL 147 LP- and MPS-Gas Torches

UL 150 Antenna Rotators

UL 153 Portable Electric Lamps

UL 174 Household Electric Storage-Tank Water Heaters

UL 183 Manufactures Wiring Systems

UL 187 X-Ray Equipment

UL 197 Commercial Electric Cooking Appliances

UL 198B Class H Fuses

UL 198C High-Interrupting-Capacity Fuses, Current Limiting Type

UL 198D High-Interrupting-Capacity Class K Fuses

UL 198E Class R Fuses

UL 198F Plug Fuses

UL 198G Fuse for Supplementary Overcurrent Protection

UL 198H Class T Fuses

UL 198L DC Fuses for Industrial Use

UL 198M Mine-Duty Fuses

UL 207 Nonelectrical Refrigerant Containing Components and Accessories

UL 209 Cellular Metal Floor Electrical Raceways and Fittings

UL 224 Extruded Insulating Tubing

UL 228 Door Closers-Holders, and Integral Smoke Detectors

UL 231 Electrical Power Outlets

UL 244A Solid-State Controls for Appliances

UL 250 Household Refrigerators and Freezers

UL 291 Automated Teller Systems

UL 294 Access Control System Units

UL 296 Oil Burners

UL 298 Portable Electric Hand Lamps

UL 310 Electrical Quick-Connect Terminals

UL 325 Door, Drapery, Gate, Louver and Window Operators and Systems

UL 343 Pumps of Oil-Burning Appliances

UL 347 High-Voltage Industrial Control Equipment

UL 351 Electrical Rosettes

UL 353 Limit Controls

UL 355 Electric Cord Reels

UL 360 Liquid Tight Flexible Steel Conduit

UL 372 Primary Safety Controls for Gas- and Oil-Fired Appliances

UL 378 Draft Equipment

UL 391 Solid-Fuel and Combination-Fuel Control and Supplementary Furnaces

UL 399 Drinking-Water Coolers

UL 412 Refrigeration Unit Coolers

UL 414 Electrical Meter Sockets

UL 416 Refrigerated Medical Equipment

UL 427 Refrigerating Units

UL 429 Electrically Operated Valves

UL 430 Electric Waste Disposers

UL 444 Communications Cables

UL 448 Pumps for Fire Protection Service

UL 452 Antenna Discharge Units

UL 464 Audible Signal Appliances

UL 466 Electric Scales

UL 467 Electrical Grounding and Bonding Equipment

UL 469 Musical Instruments and Accessories

UL 471 Commercial Refrigerators and Freezers

UL 474 Dehumidifiers

UL 482 Portable Sun/Heat Lamps

UL 484 Room Air Conditioners

UL 486A Wire Connectors and Soldering Lugs for Use With Copper Conductors

UL 486B Wire Connectors for Use With Aluminum Conductors

UL 486C Splicing Wire Connectors

UL 486D Insulated Wire Connectors for Use With Underground Conductors

UL 486E Equipment Wiring Terminals for Use With Aluminum and/or Copper Conductors

UL 489 Molded-Case Circuit Breakers and Circuit-Breaker Enclosures

UL 493 Thermoplastic-Insulated Underground Feeder and Branch-Circuit Cables

UL 495 Power-Operated Dispensing Devices for LP-Gas

UL 496 Edison-Base Lampholders

UL 497 Protectors for Communication Circuits

UL 497A Secondary Protectors for Communication Circuits

UL 497B Protectors for Data Communication and Fire Alarm Circuits

UL 498 Attachment Plugs and Receptacles

UL 499 Electric Heating Appliances

UL 506 Specialty Transformers

UL 507 Electric Fans

UL 508 Electric Industrial Control Equipment

UL 508C Power Conversion Equipment

UL 510 Insulating Tape

UL 511 Porcelain Electrical Cleats, Knobs, and Tubes

UL 512 Fuseholders

UL 514A Metallic Outlet Boxes, Electrical

UL 514B Fittings for Conduit and Outlet Boxes

UL 514C Nonmetallic Outlet Boxes, Flush-Device Boxes and Covers

UL 541 Refrigerated Vending Machines

UL 542 Lampholders, Starters, and Starter Holders for Fluorescent Lamps

UL 544 Electric Medical and Dental Equipment

UL 551 Transformer-Type Arc-Welding Machines

UL 561 Floor Finishing Machines

UL 563 Ice Makers

UL 574 Electric Oil Heater

UL 603 Power Supplies for Use With Burglar-Alarm Systems

UL 609 Local Burglar-Alarm Units and Systems

UL 621 Ice Cream Makers

UL 632 Electrically Actuated Transmitters

UL 636 Holdup Alarm Units and Systems

UL 639 Intrusion-Detection Units

UL 651 Schedule 40 and 80 Rigid PVC Conduit

UL 651A Type EB and A Rigid PVC Conduit and HDPE Conduit

UL 664 Commercial (Class IV) Electric Dry-Cleaning Machines

UL 674 Electric Motors and Generators for Use in Hazardous (Classified) Locations

UL 676 Underwater Lighting Fixtures

UL 680 Emergency Vault Ventilators and Vault Ventilating Parts

UL 696 Electric Toys

UL 697 Toy Transformers

UL 698 Industrial Control Equipment for Use in Hazardous (Classified) Locations

UL 705 Power Ventilators

UL 710 Grease Extractors for Exhaust Ducts

UL 719 Nonmetallic Sheathed Cables

UL 726 Oil-Fired Boiler Assemblies

UL 727 Oil-Fired Central Furnaces

UL 729 Oil-Fired Floor Furnaces

UL 730 Oil-Fired Wall Furnaces

UL 731 Oil-Fired Unit Heaters

UL 732 Oil-Fired Water Heaters

UL 733 Oil-Fired Air Heaters and Direct-Fired Heaters

UL 746A Polymeric Materials—Short Term Property Evaluations

UL 746B Polymeric Materials—Long Term Property Evaluations

UL 746C Polymeric Materials—Use in Electrical Equipment Evaluations

UL 746E Polymeric Materials—Industrial Laminates, Filament Wound Tubing, Vulcanized Fibre and Materials Used in Printed Wiring Boards

UL 749 Household Dishwashers

UL 751 Vending Machines

UL 756 Coin and Currency Changers and Actuators

UL 763 Motor-Operated Commercial Food Preparing Machines

UL 773 Plug-In Locking-Type Photocontrols for Use With Area Lighting

UL 773A Nonindustrial Photoelectric Switches for Lighting Control

UL 775 Graphic Arts Equipment

UL 778 Motor-Operated Water Pumps

UL 781 Portable Electric Lighting Units for Use in Hazardous (Classified) Locations

UL 783 Electric Flashlights and Lanterns for Use in Hazardous Locations, Class I, Groups C and D

UL 795 Commercial-Industrial Gas-Heating Equipment

UL 796 Printed-Wiring Boards

UL 797 Electrical Metallic Tubing

UL 810 Capacitors

UL 813 Commercial Audio Equipment

UL 814 Gas-Tube-Sign and Ignition Cable

UL 817 Cord Sets and Power-Supply Cords

UL 823 Electric Heaters for Use in Hazardous (Classified) Locations

UL 826 Household Electric Clocks

UL 834 Heating, Water Supply, and Power Boilers—Electric

UL 842 Valves for Flammable Fluids

UL 844 Electric Lighting Fixtures for Use in Hazardous (Classified) Locations

UL 845 Electric Motor Control Centers

UL 858 Household Electric Ranges

UL 858A Safety-Related Solid-State Controls for Electric Ranges

UL 864 Service Entrance Cable

UL 857 Electric Busways and Associated Fittings

UL 858 Household Electric Ranges

UL 858A Safety-Related Solid-State Controls for Electric Ranges

UL 859 Personal Grooming Appliance

UL 863 Electric Time-Indicating and -Recording Appliances

UL 867 Electrostatic Air Cleaners

UL 869A Reference Standard for Service Equipment

UL 870 Wireways, Auxiliary Gutters, and Associated Fittings

UL 873 Electrical Temperature-Indicating and -Regulating Equipment

UL 875 Electric Dry Bath Heaters

UL 877 Circuit Breakers and Circuit-Breaker Enclosure for Use in Hazardous (Classified) Locations

UL 879 Electrode Receptacles for Gas-Tube Signs

UL 884 Underfloor Electrical Raceways and Fittings

UL 886 Electrical Outlet Boxes and Fittings for Use in Hazardous (Classified) Locations

UL 891 Dead-Front Electrical Switchboards

UL 894 Switches for Use in Hazardous (Classified) Locations

UL 896 Oil-Burning Stoves

UL 910 Test Method for Fire and Smoke Characteristics of Electrical and Optical-Fiber Cables

UL 913 Intrinsically Safe Apparatus and Associated Apparatus for Use in Class I, III and III, Division I, Hazardous (Classified) Locations

UL 916 Energy Management Equipment

UL 917 Clock-Operated Switches

UL 921 Commercial Electric Dishwashers

UL 923 Microwave Cooking Appliances

UL 924 Emergency Lighting and Power Equipment

UL 935 Fluorescent Lamp Ballasts

UL 943 Ground-Fault Circuit Interrupters

UL 961 Hobby and Sports Equipment

UL 964 Electrically Heating Bedding

UL 969 Marking and Labeling Systems

UL 977 Fused Power-Circuit Devices

UL 982 Motor-Operated Food Preparing Machines

UL 983 Surveillance Cameras

UL 984 Hermetic Refrigerant Motor-Compressors

UL 987 Stationary and Fixed Electric Tools

UL 991 Tests for Safety-Related Controls Employing Solid-State Devices

UL 998 Humidifiers

UL 1002 Electrically Operated Valve for Use in Hazardous (Classified) Locations

UL 1004 Electric Motors

UL 1005 Electric Flatirons

UL 1008 Automatic-Transfer Switches

UL 1010 Receptacle-Plug Combinations for Use in Hazardous (Classified) Locations

UL 1012 Power Supplies

UL 1017 Electric Vacuum Cleaning Machines and Blower Cleaners

UL 1018 Electric Aquarium Equipment

UL 1020 Thermal Cutoffs for Use in Electrical Appliances and Components

UL 1022 Line Isolated Monitors

UL 1026 Electric Household Cooking and Food-Serving Appliances

UL 1028 Electric Hair-Clipping and -Shaving Appliances

UL 1029 High-Intensity Discharge Lamp Ballasts

UL 1030 Sheathed Heater Elements

UL 1037 Antitheft Alarms and Devices

UL 1042 Electric Baseboard Heating Equipment

UL 1047 Isolated Power Systems Equipment

UL 1053 Ground-Fault Sensing and Relaying Equipment

UL 1054 Special-Use Switches

UL 1059 Terminal Blocks

UL 1063 Machine-Tool Wires and Cables

UL 1066 Low-Voltage AC and DC power Circuit Breakers Used in Enclosures

UL 1069 Hospital Signaling and Nurse Call Equipment

UL 1072 Medium Voltage Power Cables

UL 1076 Proprietary Burglar-Alarm Units and Systems

UL 1077 Supplementary Protectors for Use in Electrical Equipment

UL 1081 Electric Swimming Pool Pumps, Filters and Chlorinators

UL 1082 Household Electric Coffee Makers and Brewing-Type Appliances

UL 1083 Household Electric Skillets and Frying-Type Appliances

UL 1086 Household Trash Compactors

UL 1087 Molded-Case Switches

UL 1088 Temporary Lighting Strings

UL 1090 Electric Snow Movers

UL 1097 Double Insulation Systems for Use in Electrical Equipment

UL 1203 Explosion-Proof and Dust-Ignition-Proof Electrical Equipment for Use in Hazardous (Classified) Locations

UL 1206 Electric Commercial Clothes-Washing Equipment

UL 1207 Sewage Pumps for Use in Hazardous (Classified) Locations

UL 1230 Amateur Movie Lights

UL 1236 Electric Battery Chargers

UL 1238 Control Equipment for Use With Flammable Liquid Dispensing Devices

UL 1240 Electric Commercial Clothes-Drying Equipment

UL 1241 Junction Boxes for Swimming Pool Lighting Fixtures

UL 1242 Intermediate Metal Conduit

UL 1244 Electrical and Electronic Measuring and Testing Equipment

UL 1261 Electric Water Heaters for Pools and Tubs

UL 1262 Laboratory Equipment

UL 1270 Radio Receivers, Audio Systems, and Accessories

UL 1277 Electrical Power and Control Tray Cables With Optional Optical-Fiber Members

UL 1278 Movable and Wall—or Ceiling-Hung Electric Room

UL 1283 Electromagnetic-Interference Filter

UL 1286 Office Furnishings

UL 1310 Direct Plug-In Transformer Units

UL 1313 Nonmetallic Safety Cans for Petroleum Products

UL 1323 Scaffold Hoists

UL 1409 Low-Voltage Video Products Without Cathode-Ray-Tube Displays

UL 1410 Television Receivers and High-Voltage Video Products

UL 1411 Transformers and Motor Transformers for Use In Audio-, Radio-, and Television-Type Appliances

UL 1412 Fusing Resistors and Temperature-Limited Resistors for Radio-, and Television-Type Appliances

UL 1413 High-Voltage Components for Television-Type Appliances

UL 1414 Across-the-Line, Antenna-Coupling, and Line-by-Pass Capacitors for Radio- and Television-Type Appliances

UL 1416 Overcurrent and Overtemperature Protectors for Radio-and Television-Type Appliances

UL 1417 Special Fuses for Radio- and Television-Type Appliances

UL 1418 Implosion-Protected Cathode-Ray Tubes for Television-Type Appliances

UL 1419 Professional Video and Audio Equipment

UL 1424 Cables for Power-Limited Fire-Protective-Signaling Circuits

UL 1429 Pullout Switches

UL 1433 Control Centers for Changing Message Type Electric Signs

UL 1436 Outlet Circuit Testers and Similar Indicating Devices

UL 1437 Electrical Analog Instruments, Panelboard Types

UL 1441 Coated Electrical Sleeving

UL 1446 Electric Water Bed Heaters

UL 1447 Electric Lawn Mowers

UL 1448 Electric Hedge Trimmers

UL 1449 Transient Voltage Surge Suppressors

UL 1453 Electric Booster and Commercial Storage Tank Water Heaters

UL 1459 Telephone Equipment

UL 1484 Residential Gas Detectors

UL 1492 Audio and Video Equipment

UL 1557 Electrically Isolated Semiconductor Devices

UL 1558 Metal Enclosed Low-Voltage Power Circuit Breaker Switchgear

UL 1559 Insect-Control Equipment, Electrocution type

UL 1561 Large General Purpose Transformers

UL 1562 Transformers, Distribution, Dry Type—Over 600 Volts

UL 1564 Industrial Battery Chargers

UL 1565 Wire Positioning Devices

UL 1567 Receptacles and Switches Intended for Use With Aluminum Wire

UL 1569 Metal-Clad Cables

UL 1570 Fluorescent Lighting Fixtures

UL 1571 Incandescent Lighting Fixtures

UL 1572 High Intensity Discharge Lighting Fixtures

UL 1573 Stage and Studio Lighting Units

UL 1574 Track Lighting Systems

UL 1577 Optical Isolators

UL 1581 Reference Standard for Electrical Wires, Cables, and Flexible Cords

UL 1585 Class 2 and Class 3 Transformers

UL 1594 Sewing and Cutting Machines

UL 1604 Electrical Equipment for Use in Class I and II, Division 2 and Class III Hazardous (Classified) Locations

UL 1610 Central-Station Burglar-Alarm Units

UL 1635 Digital Burglar Alarm Communicator System Units

UL 1638 Visual Signaling Appliances

UL 1647 Motor-Operated Massage and Exercise Machines

UL 1651 Optical Fiber Cable

UL 1660 Liquid-Tight Flexible Nonmetallic Conduit

UL 1662 Electric Chain Saws

UL 1666 Standard Test for Flame Propagation Height of Electrical and Optical-Fiber Cables Installed Vertically in Shafts

UL 1676 Discharge Path Resistors

UL 1681 Wiring Device Configurations

UL 1690 Data-Processing Cable

UL 1727 Commercial Electric Personal Grooming Appliances

UL 1773 Termination Boxes

UL 1776 High-Pressure Cleaning Machines

UL 1778 Uninterruptible Power Supply Equipment

UL 1786 Nightlights

UL 1795 Hydromassage Bathtubs

UL 1812 Ducted Heat Recovery Ventilators

UL 1815 Nonducted Heat Recovery Ventilators

UL 1863 Communication Circuit Accessories

UL 1876 Isolating Signal and Feedback Transformers for Use in Electronic Equipment

UL 1917 Solid-State Fan Speed Controls

UL 1950 Information Technology Equipment Including Electrical Business Equipment

UL 1951 Electric Plumbing Accessories

UL 1963 Refrigerant Recovery/Recycling Equipment

UL 1993 Self-Ballasted Lamps and Lamp Adapters

UL 1995 Heating and Cooling Equipment

UL 1996 Duct Heaters

UL 2044 Commercial Closed Circuit Television Equipment

UL 2083 Halon 1301 Recovery/Recycling Equipment

UL 2097 Reference Standard for Double Insulation Systems for Use in Electronic Equipment

UL 2601-1 Medical Electrical Equipment

UL 3101-1 Electrical Equipment for Laboratory Use; Part 1: General Requirements

UL 3111-1 Electrical Measuring and Test Equipment; Part 1: General Requirements

UL 6500 Audio/Visual and Musical Instrument Apparatus for Household, Commercial, and Similar General Use

UL 8730-1 Electrical Controls for Household and Similar Use; Part 1: General Requirements

(1) These standards are approved for equipment or materials intended for use in commercial and industrial power system applications. These standards are not approved for equipment or materials intended for use in installations that are excluded by the provisions of Subpart S in 29 CFR part 1910, in particular § 1910.302(a)(2).

Note: Testing and certification of gas operated equipment is limited to equipment for use with “liquefied petroleum gas” (“LPG” or “LP-Gas”).

Footnote “(1)” has been added for clarification and for consistency with similar standards that are included for the expansion request.

The designations and titles of the above test standards were current at the time of the preparation of this notice. Many of the Underwriters Laboratories (UL) test standards listed in this notice are approved as American National Standards by the American National Standards Institute (ANSI). However, for convenience in compiling the lists, we use the designation of the standard developing organization (e.g., UL 22) for the standard, as opposed to the ANSI designation (e.g., ANSI/UL 22). Under our procedures, an NRTL recognized for an ANSI approved test standard may use either the latest proprietary version of the test standard or the latest ANSI version of that standard, regardless of whether it is currently recognized for the proprietary or ANSI version. Contact ANSI or the ANSI web site to find out whether or not a standard is currently ANSI approved.

Programs and Procedures

CSA seeks continued use of the following supplemental programs and procedures, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA has already recognized CSA for these programs.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed the program descriptions to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

Expansion of NRTL Recognition

CSA seeks recognition for testing and certification of products to demonstrate compliance with the following 144 test standards, and OSHA has determined the standards are appropriate, as prescribed by 29 CFR 1910.7(c). OSHA recognition of any NRTL for a particular test standard is limited to equipment or materials (i.e., products) for which OSHA standards require third party testing and certification before use in the workplace. As a result, the Agency's recognition of an NRTL for a test standard excludes any product(s), falling within the scope of the test standard, for which OSHA has no such requirements.

ANSI C37.09 Standard Test Procedure for AC High-Voltage Circuit Breakers Rated on a Symmetrical Current Basis ⁽¹⁾

ANSI C37.013 AC High-Voltage Generator Circuit Breakers Rated on a Symmetrical ⁽¹⁾

ANSI C37.13 Low-Voltage AC Power Circuit Breakers Used In Enclosures ⁽¹⁾

ANSI C37.14 Low-Voltage DC Power Circuit Breakers Used in Enclosures ⁽¹⁾

ANSI C37.17 Trip Devices for AC and General Purpose DC Low-Voltage Power Circuit Breakers ⁽¹⁾

ANSI C37.18-1979 Enclosed Field Discharge Circuit Breakers for Rotating Electric Machinery ⁽¹⁾

ANSI C37.29-1981 Low-Voltage AC Power Circuit Protectors Used in Enclosures ⁽¹⁾

ANSI C37.45 Distribution Enclosed Single-Pole Air Switches ⁽¹⁾

ANSI C37.47-1981 Specifications for Distribution Fuse Disconnecting Switches, Fuse Supports, and Current-Limiting Fuses ⁽¹⁾

ANSI C37.50 Low-Voltage AC Power Circuit Breakers Used in Enclosures—Test Procedures ⁽¹⁾

ANSI C37.51 Metal-Enclosed Low-Voltage AC Power Circuit-Breaker Switchgear Assemblies—Conformance Test Procedures ⁽¹⁾

ANSI C37.52 Low-Voltage AC Power Circuit Protectors Used in Enclosures—Test Procedures ⁽¹⁾

ANSI C37.53.1 High-Voltage Current Motor-Starter Fuses—Conformance Test Procedures ⁽¹⁾

ANSI C37.66 Oil-Filled Capacitor Switches for Alternating-Current Systems—Requirements ⁽¹⁾

ANSI C37.71 Three Phase, Manually Operated Subsurface Load Interrupting Switches for Alternating-Current Systems ⁽¹⁾

ANSI C57.13 Requirements for Instrument Transformers ⁽¹⁾

ANSI C57.13.2 Instrument Transformers—Conformance Test Procedures ⁽¹⁾

ANSI S82.02.01 Electric and Electronic Test, Measuring, Controlling, and Related Equipment: General Requirement

ANSI/NEMA 250 Enclosures for Electrical Equipment

ANSI Z21.5.1 Gas Clothes Dryers—Type 1

ANSI Z21.10.1 Gas Water Heaters—Automatic Storage Type Water Heaters with Inputs of 70,000 Btu Per Hour or Less

ANSI Z21.24 Metal Connectors for Gas Appliances

ANSI Z21.40.2-1996 Gas-Fired, Work Activated Air-Conditioning and Heat Pump Appliances (Internal Combustion)

ANSI Z21.41 Quick-Disconnect Devices for Use with Gas Fuel

ANSI Z21.50 Vented Decorative Gas Appliances

ANSI Z21.60 Decorative Gas Appliances for Installation in Vented Fireplaces

ANSI Z21.69 Connectors for Movable Gas Appliances

ANSI Z83.17 Direct Gas Fired Door Heaters

ANSI Z83.18 Direct Gas-Fired Industrial Air Heaters

FMRC 3600 Electrical Equipment for Use in Hazardous (Classified) Locations, General Requirements

FMRC 3610 Intrinsically Safe Apparatus and Associated Apparatus for Use in Class I, II and III, Division 1 Hazardous (Classified) Locations

FMRC 3611 Electrical Equipment for Use in Class I, Division 2; Class II, Division 2; and Class III, Division 1 and 2 Hazardous Locations

FMRC 3615 Explosion proof Electrical Equipment, General Requirements

FMRC 3620 Purged and Pressurized Electrical Equipment for Hazardous (Classified) Locations

FMRC 6310 Combustible Gas Detectors

UL 5A Nonmetallic Surface Raceways and Fittings

UL 5B Strut-Type Channel Raceways and Fittings

UL 96 Lightning Protection Components

UL 201 Garage Equipment

UL 218 Fire Pump Controllers

UL 234 Low Voltage Lighting Fixtures for Use in Recreational Vehicles

UL 248-1 Low-Voltage Fuses—Part 1: General Requirements

UL 248-2 Low-Voltage Fuses—Part 2: Class C Fuses

UL 248-3 Low-Voltage Fuses—Part 3: Class CA and CB Fuses

UL 248-4 Low-Voltage Fuses—Part 4: Class CC Fuses

UL 248-5 Low-Voltage Fuses—Part 5: Class G Fuses

UL 248-6 Low-Voltage Fuses—Part 6: Class H Non-Renewable Fuses

UL 248-7 Low-Voltage Fuses—Part 7: Class H Renewable Fuses

UL 248-8 Low-Voltage Fuses—Part 8: Class J Fuses

UL 248-9 Low-Voltage Fuses—Part 9: Class K Fuses

UL 248-10 Low-Voltage Fuses—Part 10: Class L Fuses

UL 248-11 Low-Voltage Fuses—Part 11: Plug Fuses

UL 248-12 Low-Voltage Fuses—Part 12: Class R Fuses

UL 248-13 Low-Voltage Fuses—Part 13: Semiconductor Fuses

UL 248-14 Low-Voltage Fuses—Part 14: Supplemental Fuses

UL 248-15 Low-Voltage Fuses—Part 15: Class T Fuses

UL 248-16 Low-Voltage Fuses—Part 16: Test Limiters

UL 252 Compressed Gas Regulators

UL 296A Waste Oil-Burning Air-Heating Appliances

UL 307A Liquid Fuel-Burning Heating Appliances for Manufactured Homes and Recreational Vehicles

UL 331 Strainers for Flammable Fluids and Anhydrous Ammonia

UL 363 Knife Switches

UL 365 Police Station Connected Burglar Alarm Units and Systems

UL 441 Gas Vents

UL 497C Protectors for Coaxial Communications Circuits

UL 536 Flexible Metallic Hose

UL 567 Pipe Connectors for Flammable and Combustible Liquids and LP-Gas

UL 569 Pigtails and Flexible Hoses

UL 588 Christmas-Tree and Decorative-Lighting Outfits

UL 634 Connectors and Switches for Use with Burglar-Alarm Systems

UL 651B Continuous Length High Density Polyethylene Conduit

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 854 Service Entrance Cable

UL 963 Sealing, Wrapping, and Marking Equipment

UL 1248 Engine-Generator Assemblies for Use in Recreational Vehicles

UL 1363 Temporary Power Taps

UL 1425 Cables for Non-Power-Limited Fire-Alarm Circuits

UL 1431 Personal Hygiene and Health Care Appliances

UL 1434 Thermistor-Type Devices

UL 1472 Solid-State Dimming Controls

UL 1482 Solid-Fuel Room Type Heaters

UL 1637 Home Health Care Signaling Equipment

UL 1640 Portable Power Distribution Units

UL 1653 Electrical Nonmetallic Tubing

UL 1664 Immersion-Detection Circuit-Interrupters

UL 1682 Plugs, Receptacles, and Cable Connectors, of the Pin and Sleeve Type

UL1684 Reinforced Thermosetting Resin Conduit

UL 1699 Arc-Fault Circuit-Interrupters

UL 1703 Flat Plate Photo Voltaic Modules and Panels

UL 1711 Amplifiers for Fire Protective Signaling Systems

UL 1740 Industrial Robots and Robotic Equipment

UL 1741 Static Inverters and Charge Controllers for use in Photovoltaic Power Systems

UL 1838 Low Voltage Landscape Lighting Systems

UL 1889 Commercial Filters for Cooking Oil

UL 1994 Low-Level Path Marking and Lighting Systems

UL 2021 Fixed and Location-Dedicated Electric Room Heaters

UL 2024 Optical Fiber Cable Raceway

UL 2034 Single and Multiple Station Carbon Monoxide Detectors

UL 2089 Vehicle Battery Adapters

UL 2111 Overheating Protection for Motors

UL 2125 Vehicle Battery Adapters

UL 2157 Electric Clothes Washing Machines and Extractors

UL 2158 Electric Clothes Dryers

UL 2161 Neon Transformers and Power Supplies

UL 2200 Stationary Engine Generator Assemblies

UL 2225 Metal-Clad Cables and Cable-Sealing Fittings for Use in Hazardous (Classified) Locations

UL 2250 Instrumentation Tray Cable

UL 3101-2-20 Electrical Equipment for Laboratory Use; Part 2: Laboratory Centrifuges Electrical Equipment for Laboratory Use; Part 1: General Requirements

UL 3121-1 Process Control Equipment

UL 60335-1 Safety of Household and Similar Electrical Appliances, Part 1; General Requirements

UL 60335-2-34 Household and Similar Electrical Appliances, Part 2; Particular Requirements for Motor-Compressors

UL 60730-2-10 Automatic Electrical Controls for Household and Similar Use; Part 2: Particular Requirements for Electrically-Operated Motor Starting Relays

UL 60730-2-11 Automatic Electrical Controls for Household and Similar Use; Part 2: Particular Requirements for Energy Regulators

UL 60730-2-12 Automatic Electrical Controls for Household and Similar Use; Part 2: Particular Requirements for Electrically-Operated Doors

UL 60730-2-13 Automatic Electrical Controls for Household and Similar Use; Part 2: Particular Requirements for Humidity Sensing Controls

UL 60730-2-16 Automatic Electrical Controls for Household and Similar Use; Part 2: Particular Requirements for Automatic Electrical Water Level-Operating Controls of the Float Type for Household and Similar Applications

UL 61058-1 Switch for Appliances

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-6 Automatic Electrical Controls for Household and Similar Use; Part 2: Particular Requirements for Automatic Electrical Pressure Sensing Controls Including Mechanical Requirements

UL 8730-2-7 Automatic Electrical Controls for Household and Similar Use; Part 2: Particular Requirements for Timers and Time Switches

UL 8730-2-8 Automatic Electrical Controls for Household and Similar Use; Part 2: Particular Requirements for Electrically Operated Water Valves

UL 8730-2-9 Automatic Electrical Controls for Household and Similar Use; Part 2: Particular Requirements for Temperature Sensing Controls

UL 8730-2-14 Automatic Electrical Controls for Household and Similar Use; Part 2: Particular Requirements for Electric Actuators

⁽¹⁾ These standards are approved for equipment or materials intended for use in commercial and industrial power system applications. These standards are not approved for equipment or materials intended for use in installations that are excluded by the provisions of Subpart S in 29 CFR part 1910, in particular Section 1910.302(a)(2).

Note: Testing and certification of gas operated equipment is limited to equipment for use with “liquefied petroleum gas” (“LPG” or “LP-Gas”).

Preliminary Finding

CSA has submitted acceptable requests for renewal and expansion of its recognition as an NRTL. In processing these requests, OSHA has performed an on-site review (evaluation) of CSA's facilities. CSA has addressed the discrepancies noted by the assessor following the review, and the assessor has included the resolution in the on-site review report (see Exhibit 27).

Following a review of the application file, the on-site review report, and other pertinent information, the NRTL Program staff has concluded that OSHA can grant to CSA: (1) The renewal for the 6 sites and the test standards and programs listed above, and (2) the expansion for the additional 144 test standards. The staff therefore recommended to the Assistant Secretary that the applications be preliminarily approved.

Based upon the recommendation of the staff, the Assistant Secretary has made a preliminary finding that the Canadian Standards Association can meet the requirements as prescribed by 29 CFR 1910.7 for the renewal and expansion of recognition. This preliminary finding does not constitute an interim or temporary approval of the applications for CSA.

OSHA welcomes public comments, in sufficient detail, as to whether CSA has met the requirements of 29 CFR 1910.7 for the renewal and expansion of its recognition as a Nationally Recognized Testing Laboratory. Your comment should consist of pertinent written documents and exhibits. To consider it, OSHA must receive the comment at the address provided above (see ADDRESSES), no later than the last date for comments (see DATES above). Should you need more time to comment, OSHA must receive your written request for extension at the address provided above (also see ADDRESSES) no later than the last date for comments (also see DATES above). You must include your reason(s) for any request for extension. OSHA will limit an extension to 30 days, unless the requester justifies a longer period. We may deny a request for extension if it is frivolous or otherwise unwarranted You may obtain or review copies of CSA's requests, the on-site review report, and all submitted comments, as received, by contacting the Docket Office, Room N2625, Occupational Safety and Health Administration, U.S. Department of Labor, at the above address. You should refer to Docket No. NRTL-2-92, the permanent record of public information on CSA's recognition.

The NRTL Program staff will review all timely comments and, after resolution of issues raised by these comments, will recommend whether to grant CSA's renewal and expansion requests. The Assistant Secretary will make the final decision on granting the renewal and expansion, and in making this decision, may undertake other proceedings that are prescribed in Appendix A to 29 CFR 1910.7. OSHA will publish a public notice of this final decision in the Federal Register.

Signed at Washington, D.C. this 2d day of March, 2001.
R. Davis Layne,
Acting Assistant Secretary.

[FR Doc. 01-6564 Filed 3-15-01; 8:45 am]

BILLING CODE 4510-26-P